DEPARTMENT OF THE TREASURY

Submission for OMB Review; Comment Request

September 15, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

Dates: Written comments should be received on or before October 22, 2009 to be assured of consideration.

Internal Revenue Service (IRS)

OMB Number: 1545-2142.

Type of Review: Extension.

Form: 8038-CP.

Title: Form 8038-CP—Return for Credit Payments to Issuers of Qualified Bonds.

Description: Form 8038-CP, Return for Credit Payments to Issuers of Qualified Bonds, will be used to make direct payments to State and local governments. The American Recovery and Reinvestment Act of 2009, Public Law 111-5, provides State and local governments with the option of issuing a tax credit bond instead of a tax-exempt governmental obligation bond. The bill gives State and local governments the option to receive a direct payment from the Federal government equal to a subsidy that would have been received through the Federal tax credit for bonds.

Respondents: State, Local, and Tribal Governments.

Estimated Total Burden Hours: 134,600 hours.

OMB Number: 1545-2141.

Type of Review: Extension.

Title: NOT-2009-31—Election and Notice Procedures for Multiemployer Plans under Sections 204 and 205 of WRERA.

Description: The guidance in this notice implements temporary, elective relief under the Workers, Retirees, and Employers Relief Act of 2008 (WRERA), which was enacted this past December, for multiemployer pension plans from certain funding requirements.

Respondents: Businesses or other for-profits.

Estimated Total Burden Hours: 1,600 hours.

OMB Number: 1545-1993.

Type of Review: Extension.

Title: Notice 2006-54, Alternative Fuel Motor Vehicle Credit.

Description: This notice sets forth a process that allows taxpayers who purchase alternative fuel motor vehicles to rely on the domestic manufacturer's (or, in the case of a foreign manufacturer, its domestic distributor's) certification that both a particular make, model, and year of vehicle qualifies as an alternative fuel motor vehicle under Sec. 30B(a)(4) and (e) of the Internal Revenue Code and the amount of the credit allowable with respect to the vehicle.

Respondents: Individuals or Households.

Estimated Total Burden Hours: 600 hours.

OMB Number: 1545-1801.

Type of Review: Extension.

Title: Revenue Procedure 2002-67, Settlement of Section 351 Contingent Liability Tax Shelter Cases.

Description: This revenue procedure prescribes procedures for taxpayers who elect to participate in a settlement initiative aimed at resolving tax shelter cases involving contingent liability transactions that are the same or similar to those described in Notice 2001-17 (“contingent liability transactions”). There are two resolution methodologies: a fixed concession procedure and a fast track dispute resolution procedure that includes binding arbitration.

Respondents: Businesses or other for-profits.

Estimated Total Burden Hours: 7,500 hours.

OMB Number: 1545-1837.

Type of Review: Extension.

Title: Revenue Procedure 2003-36, Industry Issue Program.

Description: Revenue Procedure 2003-36 describes the procedures for business taxpayers, industry associations, and others representing business taxpayers to submit issues for resolution under the IRS's Industry Issues Resolution Program.

Respondents: Businesses or other for-profits.

Estimated Total Burden Hours: 2,000 hours.

OMB Number: 1545-1814.

Type of Review: Extension.

Form: 1099-CAP.

Title: Changes in Corporate Control and Capital Structure.

Description: Any corporation that undergoes reorganization under Regulation section 1.6043-4T with stock, cash, and other property over $100 million must file Form 1099-CAP with the IRS shareholders.

Respondents: Businesses or other for-profits.

Estimated Total Burden Hours: 67 hours.

OMB Number: 1545-2140.

Type of Review: Extension.

Form: 8935, 8935-T.

Title: Form 8935—Airplane Payments Report.

Description: Form 8935 will provide to the employee, current or former, the amount of the payment that was received from the airline that is eligible for rollover treatment into a Roth IRA. Form 8935-T is a new transmittal form developed for filing information reporting Forms 8935, Airline Payments Reports, with the Service via paper filing.

Respondents: Businesses or other for-profits.

Estimated Total Burden Hours: 44 hours.

OMB Number: 1545-2143.

Type of Review: Extension.

Title: Notice 2009-26, Build America Bonds and Direct Payment Subsidy Implementation.

Description: This Notice provides guidance on the new tax incentives for Build America Bonds under § 54AA of the Internal Revenue Code (“Code”) and the implementation plans for the refundable credit payment procedures for these bonds. This Notice includes guidance on the modified Build America Bond program for Recovery Zone Economic Development Bonds under § 1400U-2 of the Code. This Notice provides guidance on the initial refundable credit payment procedures, required elections, and information reporting. This Notice solicits public comments on the refundable credit payment procedures for these bonds. This Notice is intended to facilitate prompt implementation of the Build America Bond program and to enable state and local governments to begin issuing these bonds for authorized purposes to promote economic recovery and job creation.

Respondents: State, Local, and Tribal Governments.

Estimated Total Burden Hours: 15,000 hours.

OMB Number: 1545-1014.

Type of Review: Extension.

Form: 1066, Schedule Q (Form 1066).

Title: Form 1066, U.S. Real Estate Mortgage Investment Conduit (REMIC) Income Tax Return; Schedule Q (Form 1066) Quarterly Notice to Residual Interest Holder of REMIC Taxable Income or Net Loss.

Description: Form 1066 and Schedule Q (Form 1066) are used by a real estate mortgage investment conduit (REMIC) to figure its tax liability and income and other tax-related information to pass through to its residual holders. IRS uses the information to determine the correct tax liability of the REMIC and its residual holders.

Respondents: Businesses or other for-profits.

Estimated Total Burden Hours: 756,580 hours.

OMB Number: 1545-2001.

Type of Review: Extension.

Title: Rev. Proc. 2006-16, Renewal Community Depreciation Provisions

Description: This revenue procedure provides the time and manner for states to make retroactive allocations of commercial revitalization expenditure amounts to certain buildings placed is service in the expanded area of renewal community pursuant to Sec. 1400E(g) of the Internal Revenue Code.

Respondents: Businesses or other for-profits.

Estimated Total Burden Hours: 150 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-22783 Filed 9-21-09; 8:45 am]

BILLING CODE 4830-01-P